DEPARTMENT OF THE TREASURY

Submission for OMB Review; Comment Request

December 10, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before January 15, 2009 to be assured of consideration.

Alcohol and Tobacco Tax and Trade Bureau (TTB)

OMB Number: 1513-0043.

Type of Review: Extension.

Form: TTB F 5110.31.

Title: Application and Permit to Ship Puerto Rican Spirits to the United States without Payment of Tax.

Description: TTB F 5110.31 is used to allow a person to ship spirits in bulk into the U.S. without payment of tax. The form identifies the person in Puerto Rico from where shipments are to be made, the person in the U.S. receiving the spirits, and amounts of spirits to be shipped.

Respondents: Businesses or other for-profits.

Estimated Total Burden Hours: 750 hours.

OMB Number: 1513-0040.

Type of Review: Extension.

Form: TTB F 5110.25.

Title: Application for Operating Permit under 26 U.S.C. 5171(d).

Description: TTB F 5110.25 is completed by proprietors of Distilled Spirits Plants who engage in certain specified types of activities. TTB National Revenue Center personnel uses the information on the form to identify the applicant, the location of the business, the types of activities to be conducted, and the qualifications of the applicant.

Respondents: Businesses or other for-profits.

Estimated Total Burden Hours: 20 hours.

OMB Number: 1513-0037.

Type of Review: Extension.

Form: TTB F 5100.11.

Title: Withdrawal of Spirits, Specially Denatured Spirits, or Wines for Exportation.

Description: TTB F 5100.11 is completed by exporters to report the withdrawal of spirits, denatured spirits, and wines from internal revenue bonded premises, without payment of tax for direct exportation, transfer to a foreign trade zone, Customs manufacturer's bonded warehouse or Customs bonded warehouse, or for use as supplies on vessels or aircraft.

Respondents: Businesses or other for-profits.

Estimated Total Burden Hours: 6,000 hours.

OMB Number: 1513-0112.

Type of Review: Extension.

Form: TTB F 5630.5t; TTB F 5630.5a; TTB F 5630.5d.

Title: Special (occupational) Tax Registration and Return.

Description: On August 10, 2005, President Bush signed into law the “Safe, Accountable, Flexible, Efficient Transportation Equity Act: A Legacy for Users,” Public Law 109-59. Section 11125 of that act permanently repealed, effective July 1, 2008, the special (occupational) taxes on all taxpayers except for Tobacco Products Mfrs (TPM), Cigarette Papers and Tubes Mfrs (CPTM), and TP Export Warehouse Proprietors (TPEWP). TTB F 5630.5 is amended into TTB F 5630.5t and only for collection of taxes from the TPM, CPTM, and TPEWP; the new TTB F 5630.5a is a tax return/registration for the period on and before 7/1/08; and the new TTB F 5630.5d is used to register Alcohol Dealers on and after 7/1/08.

Respondents: Businesses or other for-profits.

Estimated Total Burden Hours: 14,583 hours.

OMB Number: 1513-0078.

Type of Review: Extension.

Form: TTB F 5200.3; TTB F 5200.16; TTB F 5230.4; TTB F 5230.5.

Title: Application for a Permit as a Manufacture of Tobacco Products or an Export Warehouse Proprietor; Application for an Amended Permit as a Manufacture of Tobacco Products or an Export Warehouse, et al.

Description: These forms are used by the tobacco industry members to obtain and amend permits necessary to engage in business as a manufacturer of tobacco products, importer of tobacco products, or proprietor of an export warehouse.

Respondents: State, Local, and Tribal Governments.

Estimated Total Burden Hours: 1,130 hours.

OMB Number: 1513-0024.

Type of Review: Revision.

Form: TTB F 5220.4.

Title: Report—Export Warehouse Proprietor.

Description: Proprietors account for taxable articles on this report. TTB uses this information to ensure that Federal laws and regulations have been complied with and determined taxes have been paid.

Respondents: Businesses or other for-profits.

Estimated Total Burden Hours: 797 hours.

OMB Number: 1513-0008.

Type of Review: Extension.

Form: TTB F 5170.7.

Title: Application and Permit to Ship Liquors and Articles of Puerto Rican Manufacture Taxpaid to the United States.

Description: TTB F 5170.7 is used to document the shipment of taxpaid Puerto Rican Liquors and articles into the U.S. The form is reviewed by Puerto Rican and U.S. Treasury Officials to certify that products are either taxpaid or deferred under appropriate bond. This serves as a method of protecting the revenue.

Respondents: Businesses or other for-profits.

Estimated Total Burden Hours: 100 hours.

OMB Number: 1513-0033.

Type of Review: Revision.

Form: TTB F 5210.5.

Title: Report—Manufacturer of Tobacco Products or Cigarette Papers and Tubes.

Description: Manufacturers account for their taxable articles on this report. TTB uses this information to ensure that taxes have been properly paid and the Federal laws and regulations are compiled with.

Respondents: Businesses or other for-profits.

Estimated Total Burden Hours: 2,304 hours.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Celina Elphage,
Treasury PRA Clearance Officer.

[FR Doc. E8-29739 Filed 12-15-08; 8:45 am]

BILLING CODE 4810-31-P